DEPARTMENT OF EDUCATION

RIN 1820 ZA18

National Institute on Disability and Rehabilitation Research

AGENCY: Office of Special Education and Rehabilitative Services, Department of Education.

ACTION: Notice of proposed priority.

SUMMARY: The Assistant Secretary for Special Education and Rehabilitative Services proposes a priority for a Disability Demographics and Statistics Center under the Rehabilitation Research and Training Centers (RRTC) Program for the National Institute on Disability and Rehabilitation Research (NIDRR). The Assistant Secretary may use this priority for competitions in fiscal year (FY) 2003 and later years. We take this action to focus research attention on an area of national need. We intend this priority to improve the rehabilitation services and outcomes for individuals with disabilities.

DATES: We must receive your comments on or before June 9, 2003.

ADDRESSES: Address all comments about this proposed priority to Donna Nangle, U.S. Department of Education, 400 Maryland Avenue, SW., room 3412, Switzer Building, Washington, DC 20202-2645. If you prefer to send your comments through the Internet, use the following address: donna.nangle@ed.gov.

FOR FURTHER INFORMATION CONTACT: Donna Nangle. Telephone: (202) 205-5880.

If you use a telecommunications device for the deaf (TDD), you may call the TDD number at (202) 205-4475 or via the Internet: donna.nangle@ed.gov.

Individuals with disabilities may obtain this document in an alternative format (e.g., Braille, large print, audiotape, or computer diskette) on request to the contact person listed under FOR FURTHER INFORMATION CONTACT.

SUPPLEMENTARY INFORMATION:

Invitation to Comment

We invite you to submit comments regarding this proposed priority.

We invite you to assist us in complying with the specific requirements of Executive Order 12866 and its overall requirement of reducing regulatory burden that might result from this proposed priority. Please let us know of any further opportunities we should take to reduce potential costs or increase potential benefits while preserving the effective and efficient administration of the program.

During and after the comment period, you may inspect all public comments about this priority in Room 3412, Switzer Building, 330 C Street SW., Washington, DC, between the hours of 8:30 a.m. and 4 p.m., Eastern time, Monday through Friday of each week except Federal holidays.

Assistance to Individuals With Disabilities in Reviewing the Rulemaking Record

On request, we will supply an appropriate aid, such as a reader or print magnifier, to an individual with a disability who needs assistance to review the comments or other documents in the public rulemaking record for this proposed priority. If you want to schedule an appointment for this type of aid, please contact the person listed under FOR FURTHER INFORMATION CONTACT.

We will announce the final priority in a notice in the Federal Register. We will determine the final priority after considering responses to this notice and other information available to the Department. This notice does not preclude us from proposing or funding additional priorities, subject to meeting applicable rulemaking requirements.

Note: This notice does not solicit applications. In any year in which we choose to use this proposed priority, we invite applications through a notice published in the Federal Register. When inviting applications we designate each priority as absolute, competitive preference, or invitational. The effect of each type of priority follows:

Absolute priority: Under an absolute priority, we consider only applications that meet the priority (34 CFR 75.105(c)(3)).

Competitive preference priority: Under a competitive preference priority, we give competitive preference to an application by either (1) awarding additional points, depending on how well or the extent to which the application meets the priority (34 CFR 75.105(c)(2)(i)); or (2) selecting an application that meets the competitive priority over an application of comparable merit that does not meet the competitive priority (34 CFR 75.105(c)(2)(ii)).

Invitational priority: Under an invitational priority, we are particularly interested in applications that meet the invitational priority. However, we do not give an application that meets the priority a competitive or absolute preference over other applications (34 CFR 75.105(c)(1)).

Note: NIDRR supports the goals of President Bush's New Freedom Initiative (NFI). The NFI can be accessed on the Internet at the following site: http://www.whitehouse.gov/news/freedominitiative/freedominitiative.html.

The proposed priority is in concert with NIDRR's Long-Range Plan (the Plan). The Plan is comprehensive and integrates many issues relating to disability and rehabilitation research topics. While applicants will find many sections throughout the Plan that support potential research to be conducted under this proposed priority, a specific reference is included for the topic presented in this notice. The Plan can be accessed on the Internet at the following site: http://www.ed.gov/offices/OSERS/NIDRR/Products.

Through the implementation of the Plan, NIDRR seeks to:

(1) Improve the quality and utility of disability and rehabilitation research; (2) foster an exchange of expertise, information, and training to facilitate the advancement of knowledge and understanding of the unique needs of traditionally underserved populations; (3) determine best strategies and programs to improve rehabilitation outcomes for underserved populations; (4) identify research gaps; (5) identify mechanisms of integrating research and practice; and (6) disseminate findings.

Rehabilitation Research and Training Centers

We may make awards for up to 60 months to institutions of higher education or providers of rehabilitation or other appropriate services. RRTCs conduct coordinated and integrated advanced programs of research targeted toward the production of new knowledge to improve rehabilitation methodology and service delivery systems, alleviate or stabilize disability conditions, or promote maximum social and economic independence for persons with disabilities. Additional information on the RRTC program can be found at: http://www.ed.gov/officers/OSERS/NIDRR/Programs/res_program.html#RRTC.

General Requirements of Rehabilitation Research and Training Centers

RRTCs must:

• Carry out coordinated advanced programs of rehabilitation research;

• Provide training, including graduate, pre-service, and in-service training to help rehabilitation personnel more effectively provide rehabilitation services to individuals with disabilities;

• Provide technical assistance to individuals with disabilities, their representatives, providers, and other interested parties;

• Disseminate informational materials to individuals with disabilities, their representatives, providers, and other interested parties;

• Serve as centers for national excellence in rehabilitation research for individuals with disabilities, their representatives, providers, and other interested parties; and

• Involve individuals with disabilities and individuals from minority backgrounds as recipients or research as well as training.

The Department is particularly interested in ensuring that the expenditure of public funds is justified by the execution of intended activities and the advancement of knowledge and, thus, has built this accountability into the selection criteria. Not later than three years after the establishment of any RRTC, NIDRR will conduct one or more reviews of the activities and achievements of the Center. In accordance with the provisions of 34 CFR 75.253(a), continued funding depends at all times on satisfactory performance and accomplishment.

Priority

Background

Policymakers, researchers, consumers, and advocates use information about the prevalence of disabilities for many purposes. Information about demographics and distribution of individuals with disabilities is essential in program planning and assessing performance. Data are key to evidence-based decisionmaking about the need for, costs of, and outcomes of assisting individuals with disabilities. Reliable and valid measures are necessary for evaluating disability policies, services, and outcomes.

The dynamic nature of disability challenges accurate measurement. Environmental and individual interactions complicate analysis. Causes and patterns of disability change constantly, straining the capacity of demographics to describe new populations and their impact on service systems. Immigrants, for example, especially those who are not legal residents, present unique challenges to the rehabilitation system. Emergent disabilities such as multiple chemical sensitivity (MCS), chronic fatigue immune deficiency syndrome (CFIDS), and fibromyalgia are examples where definitional factors complicate diagnosis, reporting, and analysis necessary to address policy and service issues. Population surveys on health and disability frequently lack an adequate number of low prevalence but potentially highly disabling cases necessary for statistical analyses.

Policymakers and program administrators need continual, rigorous improvement in data methods to identify and respond to disability trends. Decisionmakers and citizens must know the costs and benefits of services and policies for individuals with disabilities at home, in the community, and when learning or working. Measures and indicators of supports such as technology, personal assistance services, health insurance, and accommodations are needed in assessing factors that lead to high quality outcomes such as successful employment, community living, and educational success of people of all ages.

Lack of standard definitions, terminology, coding, classification, and measurement of disability and functioning often limits generalization of research findings. Extending use of research findings or population trends to inform policy or clinical interventions is limited due to the difficulty of extrapolating knowledge about disabilities that is gathered from a disparate range of data sources, classification and coding systems, and measures of disability. For example, it is important to estimate future potential demands on rehabilitation systems, but existing population data sources do not adequately provide for planning, development, and evaluation of rehabilitation services and population trends. The International Classification of Functioning, Disability, and Health (ICF) is a coding system that allows one to assess disability as a dynamic interaction between the person and the environment. The ICF can assist with generating evidence-based policy, research, programs, and services. To extend the use of the ICF within the United States, a variety of measurement tools and data systems must be examined in addition to further evaluation of the implications of the classification system for U.S. populations. To better serve consumers, NIDRR intends to support the development, evaluation, and improvement of the ICF as it applies to participation of individuals with disabilities in society and the environments, systems, and policies that have the potential to affect their lives.

Letters of Intent

To assist with selection of reviewers for this competition, NIDRR is requiring all potential applicants to submit a Letter of Intent (LOI). Each LOI must be limited to a maximum of four pages and must include the following information: (1) The title of the proposed RRTC, the name of the host institution, the name of the Principal Investigator (PI), and the names of partner institutions and entities; (2) a brief statement of the vision, goals, and objectives of the proposed RRTC and a description of its research and development activities at a sufficient level of detail to allow NIDRR to select potential peer reviewers; (3) a list of proposed RRTC staff including the Center Director and key personnel; and (4) a list of individuals whose selection as a peer reviewer might constitute a conflict of interest due to involvement in proposal development, selection as an advisory board member, co-PI relationships, etc. Submission of a LOI is a prerequisite for eligibility to submit an application.

The signed, original LOI, or with prior approval an email or facsimile copy, must be received by NIDRR no later than June 9, 2003. Applicants that submit email or facsimile copies must follow up by sending to NIDRR the signed original copy no later than one week after the date the e-mail or facsimile copy was sent. All communications pertaining to the LOI must be sent to: David Keer, U.S. Department of Education, 400 Maryland Avenue, SW., room 3431, Switzer Building, Washington, DC 20202-2645. With prior approval, an email or facsimile copy of a LOI will be accepted by NIDRR as meeting the four-week deadline. However, in these cases, NIDRR must receive a signed original no later than one week after the date the e-mail or facsimile copy was sent. For further information regarding the LOI requirement, contact David Keer at (202) 205-5633 or by e-mail at: david.keer@ed.gov.

Proposed Priority

The Assistant Secretary proposes to fund one RRTC on disability demographics and statistics. The purpose of the RRTC is to support rigorous collaborative research to generate new knowledge that advances evidence-based decisionmaking to improve the lives of persons with disabilities. The references for this topic can be found in the Plan, Chapter 2, Dimensions of Disability: Age, Gender, Education, Income, and Geography; Chapter 7, Associated Disability Areas: Disabilty Statistics. The RRTC must:

(1) Conduct analyses using a variety of data sources, including those that assess facilitators and barriers to participation in society, to address the status and understanding of the population of individuals with disabilities;

(2) Identify, develop as necessary, and validate a series of best-practice approaches that facilitate the selection of appropriate measures, ensure a high degree of power and representativeness of the sample, and apply techniques of interviewing and data collection that lead to high levels of quality and relevance of information while minimizing the burden on respondents;

(3) Identify, develop as necessary, and evaluate instruments, data sources, administrative records, or other sources that allow Federal policymakers to use the ICF classification system for evidence-based decisionmaking;

(4) Serve as a resource on disability statistics and demographics for Federal and other government agencies, policymakers, consumers, advocates, researchers, and others; and

(5) Develop quality standards to guide the identification of information for dissemination and conduct all activities to prepare, produce, and disseminate findings in a variety of media, such as web-based and print documents, meetings and conferences, and teleconferences that are targeted to the wide range of audiences who need such information.

In addition to the activities proposed by the applicant to carry out these purposes, the RRTC must:

• Conduct a state-of-the-science conference on its respective area of research in the third year of the grant cycle and publish a comprehensive report on the final outcomes of the conference in the fourth year of the grant cycle. This conference must include materials from experts internal and external to the center;

• Develop a systematic plan for widespread dissemination of informational materials based on knowledge gained from the Center's research activities, and disseminate the materials to persons with disabilities, their representatives, service providers, and other interested parties.

• Coordinate on research projects of mutual interest with relevant NIDRR-funded projects as identified through consultation with the NIDRR project officer;

• Involve individuals with disabilities in planning and implementing its research, training, and dissemination activities, and in evaluating the Center;

• Demonstrate in its application how it will address, in whole or in part, the needs of individuals with disabilities from minority backgrounds;

• Demonstrate how the RRTC project will yield measurable results for people with disabilities;

• Identify specific performance targets and propose outcome indicators, along with time lines to reach these targets; and

• Demonstrate how the RRTC project can transfer research findings to practical applications in planning, policy-making, program administration, and delivery of services to individuals with disabilities.

Executive Order 12866

This notice of proposed priority has been reviewed in accordance with Executive Order 12866. Under the terms of the order, we have assessed the potential costs and benefits of this regulatory action.

The potential costs associated with the notice of proposed priority are those resulting from statutory requirements and those we have determined as necessary for administering this program effectively and efficiently.

In assessing the potential costs and benefits—both quantitative and qualitative—of this notice of proposed priority, we have determined that the benefits of the proposed priority justify the costs.

Summary of potential costs and benefits: The potential cost associated with this proposed priority is minimal while the benefits are significant. Grantees may anticipate costs associated with completing the application process in terms of staff time, copying, and mailing or delivery. The use of e-Application technology reduces mailing and copying costs significantly.

The benefits of the Disability Demographics and Statistics Center have been well established over the years in that similar projects have been completed. This proposed priority will generate new knowledge through a research, dissemination, utilization, training, and technical assistance project.

The benefit of this proposed priority and proposed applications and project requirements will be the establishment of a new RRTC that generates, disseminates, and promotes the use of new information that will improve the options for disabled individuals to perform regular activities in the community.

Applicable Program Regulations: 34 CFR part 350.

Electronic Access to This Document

You may view this document, as well as all other Department of Education documents published in the Federal Register, in text or Adobe Portable Document Format (PDF) on the Internet at the following site: http://www.ed.gov/legislation/FedRegister.

To use PDF you must have Adobe Acrobat Reader, which is available free at this site. If you have questions about using PDF, call the U.S. Government Printing Office (GPO), toll free, at 1-888-293-6498; or in the Washington, DC, area at (202) 512-1530.

Note: The official version of this document is published in the Federal Register. Free Internet access to the official edition of the Federal Register and the Code of Federal Regulations is available on GPO Access at: http://www.access.gpo.gov/nara/index.html.

(Catalog of Federal Domestic Assistance Number: 84.133B, Rehabilitation Research and Training Center Program)

Program Authority: 29 U.S.C. 762(g) and 764(b)(2).

Dated: May 6, 2003.
Robert H. Pasternack,
Assistant Secretary for Special Education and Rehabilitative Services.

[FR Doc. 03-11623 Filed 5-8-03; 8:45 am]

BILLING CODE 4000-01-P